DEPARTMENT OF TRANSPORTATION

Federal Highway Administration

Environmental Impact Statement: Otter Tail and Wadena Counties, MN

AGENCY: Federal Highway Administration (FHWA), DOT.

ACTION: Notice of Intent to Terminate EIS.

SUMMARY: The FHWA is issuing this notice to advise the public that the Environmental Impact Statement (EIS) process for proposed highway improvements to Trunk Highway (TH) 10 in Otter Tail and Wadena Counties, Minnesota is terminated. The original Notice of Intent for this EIS process was published in the Federal Register on March 27, 2003.

FOR FURTHER INFORMATION CONTACT: Cheryl Martin, Environmental Engineer, Federal Highway Administration, Galtier Plaza, Suite 500, 380 Jackson Street, St. Paul, Minnesota 55101, Telephone (651) 291-6120; or Lori Vanderhider, P. E., Project Manager, Minnesota Department of Transportation—District 4, 1000 Highway 10 West, Detroit Lakes, Minnesota 56501, Telephone (218) 846-7955; (651) 296-9930 TTY.

SUPPLEMENTARY INFORMATION: The FHWA, in cooperation with the Minnesota Department of Transportation (Mn/DOT) has terminated the EIS process begun in 2003 to address future transportation demand, safety problems, access management, interregional corridor status, and system continuity on TH 10 from 620th Avenue in Bluffton, Otter Tail County to approximately 1.5 miles east of Wadena, Wadena County, Minnesota, a distance of approximately 6.5 miles. The Scoping Decision Document for the project was approved by Mn/DOT on April 6, 2004. In June 2008, Mn/DOT issued a press release to notify the agencies and public that work on the EIS was being discontinued after the Draft EIS studies were unable to identify a safety or capacity need for expansion of TH 10 in the project area. Therefore, the EIS for this project has been terminated.

(Catalog of Federal Domestic Assistance Program Number 20.205, Highway Planning and Construction. The regulations implementing Executive Order 12372 regarding intergovernmental consultation on Federal programs and activities apply to this program.)

Issued on: October 3, 2008.
Cheryl B. Martin,
Environmental Engineer, Federal Highway Administration, St. Paul, Minnesota.

[FR Doc. E8-23992 Filed 10-9-08; 8:45 am]

BILLING CODE 4910-22-M